FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 11, 2023.

A. Federal Reserve Bank of Minneapolis (Stephanie Weber, Assistant Vice President) 90 Hennepin Avenue, Minneapolis, Minnesota 55480-0291. Comments can also be sent electronically to MA@mpls.frb.org:

1. Sally A. Farrar, Arkansaw,Wisconsin; Arthur Turner, Lauderdale, Minnesota; Reid Turner, Iowa City, Iowa; and Mary S. Farrar Turner and Frank Turner, both of Pierre, South Dakota; to retain voting shares of Capitol Bancorporation, Inc., Britton, South Dakota, and thereby indirectly retain voting shares of First National Bank, Fort Pierre, South Dakota, as part of a group acting in concert that also includes the Frank L. Farrar Dynasty Trust II, the Frank L. Farrar and Patricia J. Farrar 2022 Irrevocable Trust, Robert Farrar as trustee of the trusts and individually, all of Britton, South Dakota; Jeanne Farrar Orfield and Samuel Farrar Orfield, Minneapolis, Minnesota; and Anne M. Farrar, St. Paul, Minnesota.

Board of Governors of the Federal Reserve System.
Michele Taylor Fennell,
Deputy Associate Secretary of the Board.

[FR Doc. 2023-06284 Filed 3-24-23; 8:45 am]

BILLING CODE 6210-01-P